DEPARTMENT OF COMMERCE

National Oceanic and Atmospheric Administration

Federal Consistency Appeal by Edwin Irizarry Garcia From an Objection by the Puerto Rico Planning Board

AGENCY: National Oceanic and Atmospheric Administration (NOAA), Department of Commerce (Commerce).

ACTION: Notice of closure—administrative appeal decision record.

SUMMARY: This announcement provides notice that the decision record has been closed for an administrative appeal filed with the Department of Commerce by Edwin Irizarry Garcia.

DATES: The decision record for the Irizarry administrative appeal closed on January 23, 2006.

ADDRESSES: Materials from the appeal record are available at the Office of the Assistant General Counsel for Ocean Services, National Oceanic and Atmospheric Administration, U.S. Department of Commerce, 1305 East-West Highway, Silver Spring, MD 20910.

FOR FURTHER INFORMATION CONTACT: Brett Grosko, Attorney-Adviser, NOAA Office of the General Counsel, 301-713-7384.

SUPPLEMENTARY INFORMATION: Edwin Irizarry Garcia (Appellant) has filed a notice of appeal with the Secretary of Commerce (Secretary) pursuant to section 307(c)(3)(A) of the Coastal Zone Management Act of 1972 (CZMA), as amended, 16 U.S.C. “1456(c)(3)(A), and implementing regulations found at 15 CFR part 930, Subpart H. Mr. Irizarry appeals an objection raised by the Puerto Rico Planning Board (Puerto Rico) to a consistency certification contained within his application to the Army Corps of Engineers for a permit to reconstruct a private pier.

Applicable provisions of the CZMA require that a notice be published in the Federal Register, indicating the date on which the decision record closed. Accordingly, notice is hereby provided that the decision record for this appeal closed on January 23, 2006.

For additional information about this appeal contact Brett Grosko, 301-713-7384.

(Federal Domestic Assistance Catalog No. 11.419 Coastal Zone Management Program Assistance.)
Dated: January 24, 2006.
James R. Walpole,
General Counsel.

[FR Doc. 06-885 Filed 1-30-06; 8:45 am]

BILLING CODE 3510-08-M